DEPARTMENT OF ENERGY

Federal Energy Regulatory Commission

[Docket No. RP00-330-000]

Dauphin Island Gathering Partners; Notice of Proposed Changes in FERC Gas Tariff

June 21, 2000.

Take notice that on June 15, 2000, Dauphin Island Gathering Partners (DIGP) tendered for filing to become part of its FERC Gas Tariff, First Revised Volume No. 1, the following tariff sheets, with an effective date of March 27, 2000. The tariff sheets remove the rate ceiling for short term capacity release transactions and are proposed to become effective on March 27, 2000:

First Revised Sheet No. 218

First Revised Sheet No. 221

DIGP states that on February 9, 2000, the Federal Energy Regulatory Commission issued its final rule regarding the regulation of short-term interstate natural gas transportation services in Docket Nos. RM98-10 and RM98-12 (Order No. 637). In the instant filing, DIGP is filing to implement provisions of Order No. 637 regarding the waiver of the rate ceiling for short-term capacity release transactions.

DIGP states that copies of the filing are being served contemporaneously on all participants listed on the service list in this proceeding and on all persons who are required by the Commission's regulations to be served with the application initiating these proceedings.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-16132 Filed 6-26-00; 8:45 am]

BILLING CODE 6717-01-M